DEPARTMENT OF THE TREASURY

Office of the Comptroller of the Currency

FEDERAL RESERVE SYSTEM

FEDERAL DEPOSIT INSURANCE CORPORATION

Proposed Agency Information Collection Activities; Comment Request

AGENCY: Office of the Comptroller of the Currency (OCC), Treasury; Board of Governors of the Federal Reserve System (Board); and Federal Deposit Insurance Corporation (FDIC).

ACTION: Joint notice and request for comment.

SUMMARY: In accordance with the requirements of the Paperwork Reduction Act of 1995 (PRA), the OCC, the Board, and the FDIC (the agencies) may not conduct or sponsor, and the respondent is not required to respond to, an information collection unless it displays a currently valid Office of Management and Budget (OMB) control number. On July 10, 2025, the agencies, under the auspices of the Federal Financial Institutions Examination Council (FFIEC), requested public comment for 60 days on a proposal to revise and extend for three years the Consolidated Reports of Condition and Income (Call Report) (FFIEC 031, FFIEC 041, and FFIEC 051), which are currently approved collections of information (Call Report proposal). The revisions described in the Call Report proposal related to proposed revisions to the enhanced supplementary leverage ratio standards applicable to global systemically important bank holding companies and their depository institution subsidiaries under the agencies' regulatory capital rules. The comment period for the Call Report proposal ended on September 8, 2025. As described in the SUPPLEMENTARY INFORMATION of this document, the agencies are proceeding with the proposed revisions to the FFIEC 031 report form and instructions, but with certain modifications. These revisions to reporting requirements would take effect as of the June 30, 2026, report date. The agencies are giving notice they are sending the collections to OMB for review.

DATES: Comments must be submitted on or before January 12, 2026.

ADDRESSES: Interested parties are invited to submit written comments to any or all of the agencies. All comments will be shared among the agencies.

OCC: You may submit comments by any of the following methods:

• Email: prainfo@occ.treas.gov.

• Mail: Chief Counsel's Office, Office of the Comptroller of the Currency, Attention: 1557-0081, 400 7th Street SW, Suite 3E-218, Washington, DC 20219.

• Hand Delivery/Courier: 400 7th Street SW, Suite 3E-218, Washington, DC 20219.

Instructions: You must include “OCC” as the agency name and “1557-0081” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

You may review comments and other related materials that pertain to this information collection beginning on the date of publication of the second notice for this collection by the following method:

• Viewing Comments Electronically: Go to www.reginfo.gov. Hover over the “Information Collection Review” drop down menu and select “Information Collection Review.” Underneath the “Currently under Review” section heading, from the drop-down menu select “Department of Treasury” and then click “submit.” This information collection can be located by searching by OMB control number “1557-0081.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

Board: You may submit comments, which should refer to “Call Report Revisions,” by any of the following methods:

• Agency website: http://www.federalreserve.gov. Follow the instructions for submitting comments at: http://www.federalreserve.gov/generalinfo/foia/ProposedRegs.cfm.

• Email: regs.comments@federalreserve.gov. Include “Call Report Revisions” in the subject line of the message.

• Fax: (202) 395-6974.

• Mail: Benjamin W. McDonough, Deputy Secretary and Ombuds of the Board, Board of Governors of the Federal Reserve System, 20th Street and Constitution Avenue NW, Washington, DC 20551.

All public comments are available on the Board's website at https://www.federalreserve.gov/apps/foia/proposedregs.aspx as submitted, unless modified for technical reasons. Accordingly, your comments will not be edited to remove any identifying or contact information.

FDIC: You may submit comments, which should refer to “Call Report Revisions—eSLR” by any of the following methods:

• Agency website: https://www.fdic.gov/federal-register-publications. Follow the instructions for submitting comments on the FDIC's website.

• Email: comments@FDIC.gov. Include “Call Report Revisions—eSLR” in the subject line of the message.

• Mail: Jennifer Jones, Deputy Executive Secretary, Attn: Comments: Call Report Revisions—eSLR, Federal Deposit Insurance Corporation, 550 17th Street NW, Washington, DC 20429.

• Hand Delivery: Comments may be hand delivered to the guard station at the rear of the 550 17th Street NW building (located on F Street NW) on business days between 7 a.m. and 5 p.m.

• Public Inspection: Comments received, including any personal information provided, may be posted without change to https://www.fdic.gov/federal-register-publications. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of this document will be retained in the public comment file and will be considered as required under all applicable laws. All comments may be accessible under the Freedom of Information Act.

Written comments and recommendations for this information collection also should be sent within 30 days of publication of this document to www.reginfo.gov/public/do/PRAMain. Find this particular information collection by selecting “Currently under 30-day Review—Open for Public Comments” or by using the search function.

FOR FURTHER INFORMATION CONTACT: For further information about the proposed revisions to the information collections discussed in this notice, please contact any of the agency staff whose names appear below. In addition, copies of the report forms for the Call Report can be obtained at the FFIEC's website (https://www.ffiec.gov/resources/reporting-forms).

OCC: Shaquita Merritt, Clearance Officer, (202) 649-5490, Chief Counsel's Office, Office of the Comptroller of the Currency, 400 7th Street SW, Washington, DC 20219. If you are deaf, hard of hearing, or have a speech disability, please dial 7-1-1 to access telecommunications relay services.

Board: Nuha Elmaghrabi, Federal Reserve Board Clearance Officer, (202) 452-3884, Office of the Chief Data Officer, Board of Governors of the Federal Reserve System, 20th and C Streets NW, Washington, DC 20551. Telecommunications Device for the Deaf (TDD) users may call (202) 263-4869.

FDIC: Kimberly Yeh, Senior Attorney, (202) 898-6514, Legal Division, Federal Deposit Insurance Corporation, 550 17th Street NW, Washington, DC 20429.

SUPPLEMENTARY INFORMATION:

I. Call Report

The agencies propose to extend for three years, with revision, their information collections associated with the FFIEC 031, FFIEC 041, and FFIEC 051 Call Report.

Report Title: Consolidated Reports of Condition and Income (Call Report).

Form Number: FFIEC 031 (Consolidated Reports of Condition and Income for a Bank with Domestic and Foreign Offices), FFIEC 041 (Consolidated Reports of Condition and Income for a Bank with Domestic Offices Only), and FFIEC 051 (Consolidated Reports of Condition and Income for a Bank with Domestic Offices Only and Total Assets Less Than $5 Billion).

Frequency of Response: Quarterly.

Affected Public: Business or other for-profit.

OCC:

OMB Control No.: 1557-0081.

Estimated Number of Respondents: 971 national banks and Federal savings associations.

Estimated Average Burden per Response: 41.29 burden hours per quarter to file.

Estimated Total Annual Burden: 160,370 burden hours to file.

Board:

OMB Control No.: 7100-0036.

Estimated Number of Respondents: 707 State member banks.

Estimated Average Burden per Response: 45.32 burden hours per quarter to file.

Estimated Total Annual Burden: 128,165 burden hours to file.

FDIC:

OMB Control No.: 3064-0052.

Estimated Number of Respondents: 2,798 insured State nonmember banks and State savings associations.

Estimated Average Burden per Response: 39.12 burden hours per quarter to file.

Estimated Total Annual Burden: 437,831 burden hours to file.

The estimated average burden hours collectively reflect the estimates for the FFIEC 031, the FFIEC 041, and the FFIEC 051 reports for each agency. When the estimates are calculated by type of report across the agencies, the estimated average burden hours per quarter are 86.25 (FFIEC 031), 55.56 (FFIEC 041), and 34.99 (FFIEC 051). The changes to the Call Report forms and instructions proposed in this notice would result in an estimated increase in burden hours per quarter for the FFIEC 031 of 0.13 hours. There would be no burden change for the FFIEC 041 or FFIEC 051. The estimated burden per response for the quarterly filings of the Call Report is an average that varies by agency because of differences in the composition of the institutions under each agency's supervision (for example, size distribution of institutions, types of activities in which they are engaged, and existence of foreign offices).

Type of Review: Extension and revision of currently approved collections. In addition to the proposed revisions discussed below, the Call Report is periodically updated to clarify instructional guidance and correct grammatical and typographical errors on the forms and instructions which are published on the FFIEC website.¹ These non-substantive updates may also be commented upon.

¹ https://www.ffiec.gov/resources/reporting-forms.

Legal Basis and Need for Collections

The Call Report information collections are mandatory: 12 U.S.C. 161 (national banks), 12 U.S.C. 324 (State member banks), 12 U.S.C. 1817 (insured State nonmember commercial and savings banks), and 12 U.S.C. 1464 (Federal and State savings associations). At present, except for selected data items and text, these information collections are not given confidential treatment.

Banks and savings associations submit Call Report data to the agencies each quarter for the agencies' use in monitoring the condition, performance, and risk profile of individual institutions and the industry as a whole. Call Report data serve a regulatory or public policy purpose by assisting the agencies in fulfilling their shared missions of ensuring the safety and soundness of financial institutions and the financial system and protecting consumer financial rights, as well as agency-specific missions affecting Federal and State-chartered institutions, such as conducting monetary policy, ensuring financial stability, and administering Federal deposit insurance. Call Reports are the source of the most current statistical data available for identifying areas of focus for on-site and off-site examinations. Among other purposes, the agencies use Call Report data in evaluating institutions' corporate applications, including interstate merger and acquisition applications for which the agencies are required by law to determine whether the resulting institution would control more than 10 percent of the total amount of deposits of insured depository institutions in the United States. Call Report data also are used to calculate the risk-based assessments for insured depository institutions.

II. Current Actions

A. Background

On July 10, 2025, the agencies requested comment on a notice of proposed rulemaking -titled “Regulatory Capital Rule: Modifications to the Enhanced Supplementary Leverage Ratio Standards for U.S. Global Systemically Important Bank Holding Companies and Their Subsidiary Depository Institutions; Total Loss-Absorbing Capacity and Long-Term Debt Requirements for U.S. Global Systemically Important Bank Holding Companies” (capital proposal).² The capital proposal would have, among other things, modified the enhanced supplementary leverage ratio (eSLR) standard for depository institution subsidiaries of U.S. top-tier bank holding companies identified as global systemically important bank holding companies (GSIBs) from the current six percent “well capitalized” threshold under the prompt corrective action framework to an eSLR buffer standard equal to 50 percent of the GSIB's most recent method 1 surcharge.

² 90 FR 30780 (July 10, 2025).

On December 1, 2025, the agencies published a final rule amending their regulatory capital rule that, among other things, modifies the eSLR standard applicable to depository institution subsidiaries of GSIBs to an eSLR buffer standard equal to 50 percent of a covered depository institution's parent GSIB's method 1 surcharge, capped at one percent (capital final rule).³ The changes in the capital final rule are effective as of April 1, 2026, with the option to early adopt starting on January 1, 2026.

³ 90 FR 55248 (December 1, 2025).

B. Proposed Revisions to Call Report Schedule RC-R

In the July 2025 Call Report proposal,⁴ the agencies proposed revisions to the FFIEC 031 report form and instructions, consistent with the capital proposal. The agencies proposed adding two new line items to Schedule RC-R, Regulatory Capital, Part I, Regulatory Capital Components and Ratios (Schedule RC-R, Part I), to reflect leverage buffer requirements, as applicable, under the capital proposal. Specifically, the agencies proposed to add new line items 56.a, “Leverage buffer standard,” and 56.b, “Leverage buffer.” These line items would be reported only by respondents that are depository institution subsidiaries of GSIBs. Additionally, the agencies proposed revisions to the Call Report instructions consistent with the capital proposal.

⁴ 90 FR 30641 (July 10, 2025).

C. Comments Received and Final eSLR Rule Reporting Revisions

No comments were received on the July 2025 Call Report proposal that were specifically related to the proposed revisions to the FFIEC 031 report form and instructions. Therefore, the agencies will proceed with adding two new line items to Schedule RC-R, Part I, to reflect leverage buffer requirements. The Call Report instructions for Schedule RC-R, Part I, will also be revised to be consistent with the capital final rule including incorporation of the eSLR buffer standard applicable to depository institution subsidiaries of GSIBs equal to 50 percent of a covered depository institution's parent GSIB's method 1 surcharge, capped at one percent.

III. Timing

As stated in the July 2025 notice, the agencies plan to make these revisions to the Call Report forms and instructions effective with the first report date following the effective date of the capital final rule. Thus, the reporting revisions to the Call Report would take effect as of the June 30, 2026, report date. For institutions that early adopt the final rule prior to April 1, 2026, the agencies plan to provide supplemental instructions to facilitate reporting in the March 31, 2026, Call Report.

IV. Request for Comment

Public comment is requested on all aspects of this joint notice. Comment is specifically invited on:

(a) Whether the proposed revisions to the collections of information that are the subject of this notice are necessary for the proper performance of the agencies' functions, including whether the information has practical utility;

(b) The accuracy of the agencies' estimates of the burden of the information collections as they are proposed to be revised, including the validity of the methodology and assumptions used;

(c) Ways to enhance the quality, utility, and clarity of the information to be collected;

(d) Ways to minimize the burden of information collections on respondents, including through the use of automated collection techniques or other forms of information technology; and

(e) Estimates of capital or start-up costs and costs of operation, maintenance, and purchase of services to provide information.

Comments submitted in response to this joint notice will be shared among the agencies.

Carl Kaminski,
Assistant Director, Office of the Comptroller of the Currency.
Benjamin W. McDonough,
Deputy Secretary of the Board, Board of Governors of the Federal Reserve System. Federal Deposit Insurance Corporation.
Dated at Washington, DC on December 8, 2025.
Jennifer M. Jones,
Deputy Executive Secretary.

[FR Doc. 2025-22481 Filed 12-10-25; 8:45 am]

BILLING CODE 4810-33-P; 6210-01-P; 6714-01-P